SMALL BUSINESS ADMINISTRATION

[Declaration of Disaster #3405]

State of Tennessee

As a result of the President's major disaster declaration on April 5, 2002, I find that Bledsoe, Blount, Claiborne, Cocke, Hancock, Hawkins, Loudon and Sevier Counties in the State of Tennessee constitute a disaster area due to damages caused by severe storms and flooding occurring January 23 through 28, 2002 and March 15 through March 20, 2002. Applications for loans for physical damage as a result of this disaster may be filed until the close of business on June 4, 2002 and for economic injury until the close of business on January 6, 2003 at the address listed below or other locally announced locations:

U.S. Small Business Administration, Disaster Area 2 Office, One Baltimore Place, Suite 300, Atlanta, GA 30308.

In addition, applications for economic injury loans from small businesses located in the following contiguous counties may be filed until the specified date at the above location: Anderson, Campbell, Cumberland, Grainger, Greene, Hamblen, Hamilton, Jefferson, Knox, McMinn, Monroe, Rhea, Roane, Sequatchie, Sullivan, Union, Van Buren, Washington and White counties in the State of Tennessee; Bell and Whitley counties in the State of Kentucky; Graham, Haywood, Madison and Swain counties in the State of North Carolina; Lee and Scott counties in the State of Virginia.

The interest rates are:

| Percent
For Physical Damage:
Homeowners With Credit Available Elsewhere | 6.625
Homeowners Without Credit Available Elsewhere | 3.312
Businesses With Credit Available Elsewhere | 7.000
Businesses and Non-Profit Organizations Without Credit Available Elsewhere | 3.500
Others (Including Non-Profit Organizations) With Credit Available Elsewhere | 6.375
For Economic Injury: Businesses and Small Agricultural Cooperatives Without Credit Available Elsewhere | 3.500

The number assigned to this disaster for physical damage is 340511. For economic injury the number is 9P2300 for Tennessee; 9P2400 for Kentucky; 9P2500 for North Carolina; and 9P2600 for Virginia.

(Catalog of Federal Domestic Assistance Program Nos. 59002 and 59008).
Dated: April 8, 2002.
Herbert L. Mitchell,
Associate Administrator for Disaster Assistance.

[FR Doc. 02-9075 Filed 4-12-02; 8:45 am]

BILLING CODE 8025-01-P